DEPARTMENT OF JUSTICE

Antitrust Division

Notice Pursuant to the National Cooperative Research and Production Act of 1993—Microcontaminant Reduction Venture

Notice is hereby given that, on August 14, 2003, pursuant to Section 6(a) of the National Cooperative Research and Production Act of 1993, 15 U.S.C. 4301 et seq. (“the Act”), Microcontaminant Reduction Venture has filed written notifications simultaneously with the Attorney General and the Federal Trade Commission disclosing changes in the project status. The notifications were filed for the purpose of extending the Act's provisions limiting the recovery of antitrust plaintiffs to actual damages under specified circumstances. Specifically, the parties to the Venture, KMG-Bernuth, Inc., Houston, TX, and Vulcan Materials Company, Birmingham, AL, have extended the term of the Venture from two to three years.

No other changes have been made in either the membership or planned activities of the group research project. Membership in this group research project remains open, and Microcontaminant Reduction Venture intends to file additional written notification disclosing all changes in membership.

On June 13, 2001, Microcontaminant Reduction Venture filed its original notification pursuant to Section 6(a) of the Act. The Department of Justice published a notice in the Federal Register pursuant to Section 6(b) of the Act on July 19, 2001 (66 FR 37709).

Dorothy B. Fountain,
Deputy Director of Operations, Antitrust Division.

[FR Doc. 03-22756 Filed 9-5-03; 8:45 am]

BILLING CODE 4410-11-M